GENERAL SERVICES ADMINISTRATION

[Notice-GTAC-2013-01; Docket No. 2013-0002; Sequence 17]

Governmentwide Travel Advisory Committee (GTAC); Upcoming Public Advisory Committee Meeting

AGENCY: Office of Governmentwide Policy, General Services Administration (GSA).

ACTION: Notice.

SUMMARY: The Governmentwide Travel Advisory Committee (GTAC) (the Committee), is a Federal Advisory Committee established in accordance with the Federal Advisory Committee Act (FACA), 5 U.S.C., App 2. This notice provides the schedule for the public meeting dates of the GTAC: July 30, 2013 and July 31, 2013. The meeting is open to the public via teleconference.

DATES: The meeting will be held on Tuesday, July 30, 2013 beginning at 1:00 p.m. Eastern Standard Time, ending no later than 4:00 p.m. and July 31, 2013 beginning at 9:00 a.m. Eastern Standard Time, ending no later than 4:00 p.m.

FOR FURTHER INFORMATION CONTACT: Ms. Marcerto Barr, Designated Federal Officer (DFO), Governmentwide Travel Advisory Committee (GTAC), Office of Governmentwide Policy, General Services Administration, 1800 F Street NW., Washington, DC 20405, 202-208-7654 or by email to: gtac@gsa.gov.

SUPPLEMENTARY INFORMATION:

Background: The GTAC was established to review existing travel policies, processes, and procedures to ensure that they are accountable and transparent, beginning with the per diem methodology, to aid in meeting agency missions in an effective and efficient manner at the lowest logical travel cost.

Authority: The GSA Office of Asset and Transportation Management, Travel and Relocation Division, establishes policy that governs travel by Federal civilian employees and others authorized to travel at Government expense on temporary duty travel through the Federal Travel Regulation.

Agenda: The main purpose of the first GTAC meeting is to discuss the potential areas of work and focus for the duration of this committee, as well as to begin discussing the per diem rate setting methodology.

Meeting Access: The meeting is open to the public via teleconference. Members of the public wishing to listen in on the GTAC discussion are recommended to visit the GTAC Web site at: www.gsa.gov/gtac to obtain a toll-free number. Members of the public will not have the opportunity to ask questions or otherwise participate in the meeting or teleconference. However, members of the public wishing to comment on the discussion or topics outlined in the agenda should follow the steps detailed in Procedures for Providing Public Comments below.

Availability of Materials for the Meeting: Please see the GTAC Web site www.gsa.gov/gtac for any available materials and detailed meeting minutes after the meeting. Detailed meeting minutes will be posted within 90 days of the meeting.

Procedures for Providing Public Comments: In general, public comments will be posted to www.gsa.gov/gtac. Non-electronic documents will be made available for public inspection and copying in GTAC offices at GSA, 1800 F Street NW., Washington, DC 20405, on official business days between the hours of 10:00 a.m. Eastern Standard Time and 4:00 p.m. You can make an appointment to inspect comments by telephoning the DFO at 202-208-7654. All comments, including attachments and other supporting materials received, are part of the public record and subject to public disclosure. Any comments submitted in connection with the GTAC meeting will be made available to the public under the provisions of the Federal Advisory Committee Act.

The public is invited to submit written comments after the closing of this meeting until 4:00 p.m. Eastern Standard Time on Tuesday, August 6, 2013 by either of the following methods and cite Meeting Notice-GTAC-2013-01; Docket No. 2013-0002; Sequence 17:

Electronic or Paper Comments: (1) Submit electronic comments to gtac@gsa.gov; or (2) submit paper comments to the attention of Ms. Marcerto Barr at GTAC, GSA 1800 F Street NW., Washington, DC 20405.

Dated: June 27, 2013.
Carolyn Austin-Diggs,
Acting Deputy Administrator, Office of Asset and Transportation Management, Office of Governmentwide Policy.

[FR Doc. 2013-16017 Filed 7-2-13; 8:45 am]

BILLING CODE 6820-14-P